DEPARTMENT OF COMMERCE

Bureau of Industry and Security

RH International, LLC, 2531 West Maryland Avenue, Tampa, FL 33629, Respondent, Mohammad Reza (a/k/a Ray) Hajian, 2531 West Maryland Avenue, Tampa, FL 33629, Related Person; Order Denying Export Privileges

A. Denial of Export Privileges of RH International, LLC

On October 18, 2012, in the U.S. District Court, Middle District of Florida Tampa Division, RH International, LLC (“RH International”) was convicted of violating the International Emergency Economic Powers Act (50 U.S.C. 1701, et seq. (2006 & Supp. IV 2010)) (“IEEPA”). Specifically, RH International was convicted of knowingly and willfully conspiring with other individuals to violate IEEPA and the Iranian Transactions Regulations (31 CFR 560.203, 560.204) by exporting computer and related equipment from the United States through the U.A.E. to Iran without first having obtained the required license from the Office of Foreign Assets Control. RH was sentenced to 12 months of unsupervised probation and a fine of $400.00.

Section 766.25 of the Export Administration Regulations (“EAR” or “Regulations”) ¹ provides, in pertinent part, that “[t]he Director of the Office of Exporter Services, in consultation with the Director of the Office of Export Enforcement, may deny the export privileges of any person who has been convicted of a violation of the EAA, the EAR, of any order, license or authorization issued thereunder; any regulation, license, or order issued under the International Emergency Economic Powers Act (50 U.S.C. 1701-1706); 18 U.S.C. 793, 794 or 798; section 4(b) of the Internal Security Act of 1950 (50 U.S.C. 783(b)), or section 38 of the Arms Export Control Act (22 U.S.C. 2778).” 15 CFR 766.25(a); see also Section 11(h) of the EAA, 50 U.S.C. app. § 2410(h). The denial of export privileges under this provision may be for a period of up to 10 years from the date of the conviction. 15 CFR 766.25(d); see also 50 U.S.C. app. § 2410(h). In addition, Section 750.8 of the Regulations states that the Bureau of Industry and Security's Office of Exporter Services may revoke any Bureau of Industry and Security (“BIS”) licenses previously issued in which the person had an interest in at the time of his conviction.

¹ The Regulations are currently codified in the Code of Federal Regulations at 15 CFR parts 730-774 (2012). The Regulations issued pursuant to the EAA (50 U.S.C. app. §§ 2401-2420 (2000)). Since August 21, 2001, the Export Administration Act (“EAA”) has been in lapse and the President, through Executive Order 13222 of August 17, 2001 (3 CFR 2001 Comp. 783 (2002)), which has been extended by successive Presidential Notices, the most recent being that of August 15, 2012 (77 FR 49699, August 16, 2012), has continued the Regulations in effect under the IEEPA.

I have received notice of RH International's conviction for violating the IEEPA, and have provided notice and an opportunity for RH International to make a written submission to BIS, as provided in Section 766.25 of the Regulations. I have not received a submission from RH International. Based upon my review and consultations with BIS's Office of Export Enforcement, including its Director, and the facts available to BIS, I have decided to deny RH International's export privileges under the Regulations for a period of 10 years from the date of RH International's conviction. I have also decided to revoke all licenses issued pursuant to the Act or Regulations in which RH International had an interest at the time of its conviction.

B. Denial of Export Privileges of Related Person

Pursuant to Sections 766.25(h) and 766.23 of the Regulations, the Director of BIS's Office of Exporter Services, in consultation with the Director of BIS's Office of Export Enforcement, may take action to name persons related to a Respondent by ownership, control, position of responsibility, affiliation, or other connection in the conduct of trade or business in order to prevent evasion of a denial order. Mohammad Reza (a/k/a “Ray”) Hajian (“Hajian”) is the owner and operator of RH International. Hajian pled guilty under 18 U.S.C. 371 to one count of conspiracy to violate IEEPA for his role in falsifying export control documents in relation to diverting U.S. origin items to Iran via the U.A.E. Hajian was sentenced to 48 months in prison, a $10 million dollar judgment, a special assessment of $100, and one year of supervised probation. Hajian is also the owner and operator of P&P Computers and Nexiant, LLC, which were also convicted of the same crime as RH International in related matters. Therefore, Hajian is related to RH International by ownership, control, position of responsibility, affiliation, or other connection in the conduct of trade or business. BIS believes that naming Hajian as a related person to RH International is necessary to avoid evasion of the denial order against RH International.

As provided in Section 766.23 of the Regulations, I gave notice to Hajian that his export privileges under the Regulations could be denied for up to 10 years due to his relationship with RH International and that BIS believes naming him as a person related to RH International would be necessary to prevent evasion of a denial order imposed against RH International. In providing such notice, I gave Hajian an opportunity to oppose his addition to the RH International Denial Order as a related party. Having received no submission from Hajian, I have decided, following consultations with BIS's Office of Export Enforcement, including its Director, to name Hajian as a Related Person to the RH International Denial Order, thereby denying his export privileges for 10 years from the date of RH International's conviction.

I have also decided to revoke all licenses issued pursuant to the Act or Regulations in which the Related Person had an interest at the time of RH International's conviction. The 10 year denial period will end on October 18, 2022.

Accordingly, it is hereby ordered

I. Until October 18, 2022, RH International, LLC with last known addresses at: 2531 West Maryland Avenue, Tampa, FL 33629, and when acting for or on behalf of RH International, its successors or assigns, agents or employees (collectively referred to hereinafter as the “Denied Person”), and the following person related to the Denied Person as defined by Section 766.23 of the Regulations: Mohammad Reza (a/k/a “Ray”) Hajian (“Hajian”), with a last known address at: 2531 West Maryland Avenue, Tampa, FL 33629, and when acting for or on behalf of Hajian, his representatives, assigns, agents, or employees (“the Related Person”) (together, the Denied Person and the Related Person are “Persons Subject to this Order”), may not, directly or indirectly, participate in any way in any transaction involving any commodity, software or technology (hereinafter collectively referred to as “item”) exported or to be exported from the United States that is subject to the Regulations, or in any other activity subject to the Regulations, including but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

II. No person may, directly or indirectly, do any of the following:

A. Export or reexport to or on behalf of the Persons Subject to this Order any item subject to the Regulations;

B. Take any action that facilitates the acquisition or attempted acquisition by the Persons Subject to this Order of the ownership, possession, or control of any item subject to the Regulations that has been or will be exported from the United States, including financing or other support activities related to a transaction whereby the Persons Subject to this Order acquire or attempt to acquire such ownership, possession or control;

C. Take any action to acquire from or to facilitate the acquisition or attempted acquisition from the Persons Subject to this Order of any item subject to the Regulations that has been exported from the United States;

D. Obtain from the Persons Subject to this Order in the United States any item subject to the Regulations with knowledge or reason to know that the item will be, or is intended to be, exported from the United States; or

E. Engage in any transaction to service any item subject to the Regulations that has been or will be exported from the United States and which is owned, possessed or controlled by the Persons Subject to this Order, or service any item, of whatever origin, that is owned, possessed or controlled by the Persons Subject to this Order if such service involves the use of any item subject to the Regulations that has been or will be exported from the United States. For purposes of this paragraph, servicing means installation, maintenance, repair, modification or testing.

III. In addition to the Related Person named above, after notice and opportunity for comment as provided in section 766.23 of the Regulations, any other person, firm, corporation, or business organization related to the Denied Person by affiliation, ownership, control, or position of responsibility in the conduct of trade or related services may also be made subject to the provisions of this Order if necessary to prevent evasion of the Order.

IV. This Order does not prohibit any export, reexport, or other transaction subject to the Regulations where the only items involved that are subject to the Regulations are the foreign-produced direct product of U.S.-origin technology.

V. This Order is effective immediately and shall remain in effect until October 18, 2022.

VI. In accordance with Part 756 of the Regulations, RH International may file an appeal of this Order with the Under Secretary of Commerce for Industry and Security. The appeal must be filed within 45 days from the date of this Order and must comply with the provisions of Part 756 of the Regulations.

VII. In accordance with Part 756 of the Regulations, the Related Person may also file an appeal of this Order with the Under Secretary of Commerce for Industry and Security. The appeal must be filed within 45 days from the date of this Order and must comply with the provisions of Part 756 of the Regulations.

VIII. A copy of this Order shall be delivered to the Denied Person and the Related Person. This Order shall be published in the Federal Register.

Issued this 21st day of March, 2013.
Bernard Kritzer,
Director, Office of Exporter Services.

[FR Doc. 2013-07278 Filed 3-28-13; 8:45 am]

BILLING CODE 3510-DT-P